NATIONAL SCIENCE FOUNDATION

Advisory Committee for Computer and Information Science and Engineering; Notice of Meeting

In accordance with the Federal Advisory Committee Act (Pub. L. 92-463, as amended), the National Science Foundation (NSF) announces the following meeting:

NAME AND COMMITTEE CODE: Advisory Committee for Computer and Information Science and Engineering (CISE) (1115).

DATE AND TIME:

December 12, 2019; 12:30 p.m. to 6:00 p.m.

December 13, 2019; 8:30 a.m. to 12:30 p.m.

PLACE: National Science Foundation, 2415 Eisenhower Avenue, Room E3430, Alexandria, VA 22314.

TYPE OF MEETING: Open.

CONTACT PERSON: KaJuana Mayberry, National Science Foundation, 2415 Eisenhower Avenue, Alexandria, VA 22314; Telephone: 703-292-8900.

PURPOSE OF MEETING: To advise NSF on the impact of its policies, programs and activities in support of CISE research, education, and research infrastructure. To provide advice to the Assistant Director for CISE on issues related to long-range planning, and to form ad hoc subcommittees and working groups to carry out needed studies and tasks.

Agenda

• NSF and CISE updates

• Discussion on NSF and CISE activities in Artificial Intelligence and Quantum Information Science

• Discussion on recent Committee of Visitors meeting for multiple CISE divisions

Dated: November 14, 2019.
Crystal Robinson,
Committee Management Officer.

[FR Doc. 2019-25061 Filed 11-18-19; 8:45 a.m.]

BILLING CODE 7555-01-P